NATIONAL AERONAUTICS AND SPACE ADMINISTRATION

48 CFR Parts 1801, 1811, 1823, 1851, and 1852

Government-Owned Contractor-Operated Vehicle Fleet Management and Reporting

AGENCY: National Aeronautics and Space Administration

ACTION: Interim rule.

SUMMARY: This interim rule revises the NASA FAR Supplement (NFS) by requiring contractors to collect data and report on usage of Government-owned contractor-operated vehicles, including Interagency Fleet Management System (IFMS) vehicles.

DATES: Effective Date: This interim rule is effective July 22, 2003.

Comment Date: Interested parties should submit comments to NASA at the address below on or before September 22, 2003 to be considered in formulation of the final rule.

ADDRESSES: Submit written comments to Patrick Flynn, NASA, Office of Procurement, Contract Management Division (Code HK), Washington, DC 20546 or via the Internet at Patrick.Flynn@nasa.gov.

FOR FURTHER INFORMATION CONTACT: Patrick Flynn, NASA, Office of Procurement, Contract Management Division (Code HK); (202) 358-0460; e-mail: Patrick.Flynn@nasa.gov.

SUPPLEMENTARY INFORMATION:

A. Background

In Executive Order 13149, “Greening the Government Through Federal Fleet and Transportation Efficiency”, section 505 requires Federal agencies to ensure that all Government-owned contractor-operated vehicles comply with all applicable goals and other requirements of the order. Section 302(c) requires agencies to collect data and report on performance in meeting the goals of the order, in accordance with requirements and guidance from the Department of Energy. In July 2000, the Department of Energy prepared the Guidance Document for Federal Agencies, as required by Executive Order 13149. Section 2-3 requires agencies to report data on Government-owned motor vehicle usage, using DOE's Federal Automotive Statistical Tool (FAST). FAST is accessed through http://fastweb.inel.gov/. Information required for FAST reporting must be obtained from contractors who have been authorized to obtain vehicles and related services pursuant to FAR paragraph 11.101(b)(1) and the new NFS 1811.101(b)(1) added under this interim rule.

This is not a significant regulatory action and, therefore, was not subject to review under section 6(b) of Executive Order 12866, Regulatory Planning and Review, dated September 30, 1993. This interim rule is not a major rule under 5 U.S.C. 804.

B. Regulatory Flexibility Act

NASA certifies that this interim rule will not have a significant economic impact on a substantial number of small entities within the meaning of the Regulatory Flexibility Act, 5 U.S.C. 601 et seq., because fewer than 100 contracts awarded to both large and small businesses are affected.

C. Paperwork Reduction Act

The Paperwork Reduction Act (Pub. L. 104-13) applies because the changes contain recordkeeping or information collection requirements. The Office of Management and Budget approved this reporting requirement under OMB control number 2700-0106.

D. Determination To Issue an Interim Rule

In accordance with 41 U.S.C. 418(d), NASA has determined that urgent and compelling reasons exist to promulgate this interim rule. The basis for this determination is that contractual reporting requirements contained in this interim rule are needed to ensure consistent reporting and an accurate baseline of Government vehicles beginning October 1, 2003. However, pursuant to Pub. L. 98-577 and FAR 1.501, NASA will consider public comments received in response to this interim rule in the formation of the final rule.

List of Subjects in 48 CFR Parts 1801, 1811, 1823, 1851, and 1852

Government Procurement.

Tom Luedtke,
Assistant Administrator for Procurement.

Accordingly, 48 CFR Parts 1801, 1811, 1823, 1851, and 1852 are amended as follows:

1. The authority citation for 48 CFR Parts 1801, 1811, 1823, 1851, and 1852 continues to read as follows:

Authority: 42 U.S.C. 2473(c)(1).

PART 1801—FEDERAL ACQUISITION REGULATIONS SYSTEM

1801.106 [Amended]

2. Amend the table in paragraph (1) of section 1801.106 by adding in numerical sequence the following NFS Segment and OMB Control Number:

NFS segment | OMB control number
1823.271 | 2700-0106

PART 1811—DESCRIBING AGENCY NEEDS

3. Amend section 1811.101 by adding paragraph (b)(1) to read as follows:

1811.101 Order of precedence for requirements documents.

* * * * *

(b)(1) Requirements for the use of energy efficient motor vehicles will be established in accordance with NPG 6200.1, “NASA Transportation and General Traffic Management”.

* * * * *

PART 1823—ENVIRONMENT, ENERGY AND WATER EFFICIENCY, RENEWABLE ENERGY TECHNOLOGIES, OCCUPATIONAL SAFETY, AND DRUG-FREE WORKPLACE

4. Add sections 1823.270 and 1823.271 to read as follows:

1823.270 Federal fleet and transportation efficiency.

Responsibility, policy and procedures for NASA's implementation of Executive Order 13149, “Greening the Government through Federal Fleet and Transportation Efficiency”, including cost-effectiveness, are described in NPG 6200.1, “NASA Transportation and General Traffic Management.”

1823.271 NASA Solicitation provision and contract clause.

Insert the clause at 1852.223-76, Federal Automotive Statistical Tool Reporting, in solicitations and contracts requiring contractor operation of Government-owned or -leased motor vehicles, including, but not limited to, interagency fleet management system (IFMS) vehicles authorized in accordance with FAR 51.2.

PART 1851—USE OF GOVERNMENT SOURCES BY CONTRACTORS

5. Revise section 1851.202 to read as follows:

1851.202 Authorization.

(a) In accordance with NPG 6200.1, “NASA Transportation and General Traffic Management”, the contracting officer shall obtain concurrence from the Transportation Officer before authorizing a contractor to obtain Government-owned or -leased vehicles and related services.

6. Add section 1851.205 to read as follows:

1851.205 Contract clause.

When the clause at FAR 52.251-2 is included in a solicitation or contract, also include the clause set forth at 1852.223-76.

PART 1852—SOLICITATION PROVISIONS AND CONTRACT CLAUSES

8. Add section 1852.223-76 to read as follows:

1852.223-76 Federal Automotive Statistical Tool Reporting.

As prescribed at 1823.271 and 1851.205, insert the following clause:

FEDERAL AUTOMOTIVE STATISTICAL TOOL REPORTING

JULY 2003

If authorized to operate Government-owned or -leased vehicles, including interagency fleet management system (IFMS) vehicles or related services in performance of this contract, the Contractor shall report the data describing vehicle usage required by the Federal Automotive Statistical Tool (FAST) by October 15 of each year. FAST is accessed through http://fastweb.inel.gov/.

(End of clause)

[FR Doc. 03-18624 Filed 7-21-03; 8:45 am]

BILLING CODE 7510-01-P